DEPARTMENT OF STATE

[Public Notice 4265]

Shipping Coordinating Committee Notice of Meeting

The Shipping Coordinating Committee (SHC) will conduct an open meeting at 2 p.m. on Monday, March 31, 2003, in Room 2415 of the United States Coast Guard Headquarters Building, 2100 2nd Street SW., Washington, DC, 20593-0001. The primary purpose of the meeting is to prepare for the 11th Session of the International Maritime Organization (IMO) Sub-Committee on Flag State Implementation to be held at IMO Headquarters in London, England from April 7th to 11th.

The primary matters to be considered include:

—Responsibilities of Governments and measures to encourage flag State compliance;

—Self-assessment of flag State performance;

—Comprehensive analysis of difficulties encountered in the implementation of IMO instruments;

—Regional cooperation on port State control;

—Reporting procedures on port State control detentions and analysis and evaluation of reports;

—Mandatory reports under MARPOL 73/78;

—Casualty statistics and investigations;

—Development of provisions on transfer of class;

—Review of resolution A.746(18);

—Illegal, unregulated and unreported (IUU) fishing and implementation of resolution A.925(22);

—Development of guidelines under the 2001 AFS Convention;

—Ship recycling-related matters;

—Introduction of the HSSC into MARPOL Annex VI on prevention of air pollution.

Members of the public may attend this meeting up to the seating capacity of the room. Interested persons may seek information by writing to Commander Linda Fagan, Commandant (G-MOC), U.S. Coast Guard Headquarters, 2100 Second Street SW., Room 1116, Washington, DC 20593-0001 or by calling (202) 267-2978.

Dated: February 20, 2003.
Frederick J. Kenney,
Executive Secretary, Shipping Coordinating Committee, Department of State.

[FR Doc. 03-4614 Filed 2-26-03; 8:45 am]

BILLING CODE 4710-01-P